DEPARTMENT OF LABOR

Office of Workers' Compensation Programs

Advisory Board on Toxic Substances and Worker Health

ACTION: Solicitation for nominations to serve on the Advisory Board on Toxic Substances and Worker Health for the Energy Employees Occupational Illness Compensation Program Act (EEOICPA).

SUMMARY: Due to one recent vacancy, the Secretary of Labor (Secretary) invites interested parties to submit nominations for individuals to serve on the Advisory Board on Toxic Substances and Worker Health for Part E of the Energy Employees Occupational Illness Compensation Program Act (EEOICPA). The nominee shall serve as a member from the claimant community, under the Board's statute and Charter.

DATES: Nominations for individuals to serve on the Board must be submitted (postmarked, if sending by mail; submitted electronically; or received, if hand delivered) within 30 days of the date of this notice.

ADDRESSES: Nominations may be submitted, including attachments, by any of the following methods:

• Electronically: Send to: EnergyAdvisoryBoard@dol.gov (specify in the email subject line, “Advisory Board on Toxic Substances and Worker Health nomination”).

• Mail, express delivery, hand delivery, messenger, or courier service: Submit one copy of the documents listed above to the following address: U.S. Department of Labor, Office of Workers' Compensation Programs, Advisory Board on Toxic Substances and Worker Health, Room S-3522, 200 Constitution Ave. NW, Washington, DC 20210.

Follow-up communications with nominees may occur as necessary through the process.

FOR FURTHER INFORMATION CONTACT: You may contact Ryan Jansen, Designated Federal Officer, at jansen.ryan@dol.gov, or Carrie Rhoads, Alternate Designated Federal Officer, at rhoads.carrie@dol.gov, U.S. Department of Labor, 200 Constitution Avenue NW, Suite S-3524, Washington, DC 20210, telephone (202) 343-5580. This is not a toll-free number.

SUPPLEMENTARY INFORMATION: The Advisory Board on Toxic Substances and Worker Health (the Board) is mandated by section 3687 of EEOICPA. The Secretary of Labor established the Board under this authority and Executive Order 13699 (June 26, 2015) and in accordance with the provisions of the Federal Advisory Committee Act (FACA), as amended, 5 U.S.C. app. 2. The purpose of the Board is to advise the Secretary with respect to: (1) the Site Exposure Matrices (SEM) of the Department of Labor; (2) medical guidance for claims examiners for claims with the EEOICPA program, with respect to the weighing of the medical evidence of claimants; (3) evidentiary requirements for claims under part B of EEOICPA related to lung disease; and (4) the work of industrial hygienists and staff physicians and consulting physicians of the Department of Labor and reports of such hygienists and physicians to ensure quality, objectivity, and consistency; (5) the claims adjudication process generally, including review of procedure manual changes prior to incorporation into the manual and claims for medical benefits; and (6) such other matters as the Secretary considers appropriate. The Advisory Board sunsets on December 19, 2024.

The Board shall consist of 12-15 members, to be appointed by the Secretary. A Chair of the Board will be appointed by the Secretary from among the Board members. Pursuant to section 3687(a)(2), the Advisory Board will reflect a reasonable balance of scientific, medical, and claimant members, to address the tasks assigned to the Advisory Board. The members serve two-year terms. At the discretion of the Secretary, members may be appointed to successive terms or removed at any time. The Board will meet no less than twice per year. On July 18, 2022, twelve members were appointed to the Board by the Secretary to two-year terms. One member from the medical community has recently resigned from the Board, creating a vacancy.

Pursuant to section 3687(d), no Board member, employee, or contractor can have any financial interest, employment, or contractual relationship (other than a routine consumer transaction) with any person who has provided or sought to provide, within two years of their appointment or during their appointment, goods or services for medical benefits under EEOICPA. A certification that this is true will be required with each nomination.

The Department of Labor is committed to equal opportunity in the workplace and seeks broad-based and diverse Advisory Board membership. Any interested person or organization may nominate one or more individuals for membership. Interested persons are also invited and encouraged to submit statements in support of nominees.

Nomination Process: If you would like to nominate an individual or yourself for appointment to the Board, please submit the following information:

• The nominee's contact information (name, title, business address, business phone, fax number, and/or business email address) and current employment or position;

• A copy of the nominee's resume or curriculum vitae;

• Category of membership that the nominee is qualified to represent (claimant);

• A summary of the background, experience, and qualifications that addresses the nominee's suitability for the nominated membership category identified above;

• Articles or other documents the nominee has authored that indicate the nominee's knowledge, experience, and expertise in fields related to the EEOICPA program, particularly as pertains to industrial hygiene, toxicology, epidemiology, occupational medicine, lung conditions, or the nuclear facilities covered by the EEOICPA program;

• Documents or other supportive materials that demonstrate the nominee's familiarity, experience, or history of participation with the EEOICPA program or with the administration of a technically complex compensation program such as EEOICPA;

• A signed statement that the nominee does not have any financial interest, employment, or contractual relationship (other than a routine consumer transaction) with any person who has provided or sought to provide, within two years of their appointment or during their appointment, goods or services for medical benefits under EEOICPA; and

• A signed statement that the nominee is aware of the nomination; is willing to regularly attend and participate in Advisory Board meetings; during the last 10 years, has not been convicted of a felony, has not been imprisoned, been on probation, or been on parole for a felony, and is not currently under charges for a felony; and has no conflicts of interest that would preclude membership on the Board.

Nominees will be appointed based on their demonstrated qualifications, professional experience, and knowledge of issues the Advisory Board may be asked to consider. Nominees will also be selected in accordance with statutory obligations under FACA and section 3687 of EEOICPA regarding a balanced membership.

The activities of the Advisory Board may necessitate its members obtaining security clearance. Pursuant to section 3687(f), the Secretary of Energy will ensure that the members and staff of the Board, and any contractors performing work in support of the Board, are afforded the opportunity to apply for a security clearance for any matter for which such a clearance is appropriate, and should provide a determination on eligibility for clearance within 180 days of receiving a completed application.

The new member shall be appointed to fill a vacancy occurring prior to the expiration of a resigning Board member's term, and shall be appointed for the remainder of such term: i.e., a two-year term ending on July 18, 2024. The vacancy will be filled with a new member from the claimant community. As specified in section 3687(i), the Advisory Board shall terminate ten (10) years after the date of the enactment of the legislation, which was December 19, 2014. Thus, the Advisory Board shall terminate on December 19, 2024.

Members are Special Government Employees (SGEs). Members will serve without compensation. However, members may each receive reimbursement for travel expenses for attending Board meetings, including per diem in lieu of subsistence, as authorized by the federal travel regulations.

Signed at Washington, DC, this 6th day of April, 2023.
Christopher Godfrey,
Director, Office of Workers' Compensation Programs.

[FR Doc. 2023-07680 Filed 4-11-23; 8:45 am]

BILLING CODE 4510-CR-P